DEPARTMENT OF COMMERCE

[I.D. 051104B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Commercial Operator's Annual Report (COAR).

Form Number(s): None.

OMB Approval Number: 0648-0428

Type of Request: Regular submission.

Burden Hours: 696.

Number of Respondents: 87.

Average Hour Per Response: 8.

Needs and Uses: The recordkeeping and reporting requirements for participants in the groundfish fisheries of the Exclusive Economic Zone off Alaska (Bering Sea and Aleutian Islands, Gulf of Alaska) require owners of catcher/processor vessels, at-sea processors, and motherships to complete the State of Alaska, Department of Fish and Game Commercial Operator's Annual Report (COAR). The COAR provides information on ex-vessel and first wholesale values for statewide fish and shellfish products, information used to analyze and measure the impact of proposed or enacted management measures.

Affected Public: Business or other for-profit organizations, and individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, fax number 202-395-7285, or David_Rostker@omb.eop.gov.

Dated: May 10, 2004.
Gwellnar Banks,
Management Analyst, Office of the Chief Information Officer.

[FR Doc. 04-11157 Filed 5-14-04; 8:45 am]

BILLING CODE 3510-22-S